DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer on (301) 443-7978.

Comments are invited on: (a) whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Mexican Border Youth Survey—New—SAMHSA's Center for Substance Abuse Prevention is planning to conduct breath test surveys at the U.S./Mexican border to address underage and binge drinking related problems to both sides of the border. The surveys are a component of the Safe Crossing environmental program in two Texas sites along the U.S.-Mexico border. The initial project targeting underage and binge drinking was implemented in San Diego, California and yielded successful outcomes, including a 26% reduction in youth crossing the border to drink alcohol. The purpose of replicating the model in Texas is to test a local adaptation of the program which surveys youth crossing the U.S.-Mexico border. This effort informs the public of problem behaviors specific to their local community and serves to develop community awareness and inform community interventions, such as underage curfews and enforcing bar closing hours. The data collected will be made available to local groups to assist in raising community awareness of youth drinking issues. It is expected that communities will use the information to tailor interventions to reduce youth drinking-associated problems.

The survey will be a five-minute interview with youths 18 to 30 years of age returning to the U.S. from Mexico between midnight and 6 a.m. on Friday and Saturday evenings. The interview consists of 26 questions concerning drinking behavior and a breath test. Approximately 100 pedestrians and 100 motorists will be interviewed one weekend per month. A total of approximately 2,400 respondents will be interviewed; half of the interviews will be conducted at El Paso, TX/Juarez, Mexico and half at the Brownsville, TX/Matamoros, Mexico border crossing site. The total burden associated with this project is summarized in the table below.

Number of responses | Respondents per respondent | Average burden per response (Hrs.) | Total burden
2,400 | 1 | .083 | 200

Send comments to Nancy Pearce, SAMHSA Reports Clearance Officer, Room 16-105, Parklawn Building, 5600 Fishers Lane, Rockville, MD 20857. Written comments should be received within 60 days of this notice.

Dated: November 30, 2000.
Richard Kopanda,
Executive Officer, SAMHSA.

[FR Doc. 00-31002 Filed 12-5-00; 8:45 am]

BILLING CODE 4162-20-P